COMMISSION ON CIVIL RIGHTS

Notice of Public Meeting of the Nevada Advisory Committee

AGENCY: U.S. Commission on Civil Rights.

ACTION: Announcement of web hearing.

SUMMARY: Notice is hereby given, pursuant to the provisions of the rules and regulations of the U.S. Commission on Civil Rights (Commission) and the Federal Advisory Committee Act (FACA) that the Nevada Advisory Committee (Committee) to the Commission will hold a web hearing from 12:00 p.m. to 2:30 p.m. (PST) on Wednesday, March 31, 2021. The purpose of the hearing is to hear testimony examining equity in education through distance learning during the COVID-19 pandemic, especially among students in K-16 schools with disabilities and students of color. This the second in a series of web hearings focused on this topic. Meeting materials and presentations will be available before and after the event at http://bit.ly/NVSAC2021.

DATES: Wednesday, March 31, 2021 from 12:00 p.m. to 2:30 p.m. (PST).

ADDRESSES:

Public Call-In Information (audio only): Dial: (800) 360-9505, Access code: 199 068 5392

Web Access Information (visual only): The online portion of the meeting may be accessed through the following link Webex: http://bit.ly/NVSAC33121

FOR FURTHER INFORMATION CONTACT: Ana Victoria Fortes, Designated Federal Officer (DFO) at afortes@usccr.gov or by phone at (202) 681-0857.

SUPPLEMENTARY INFORMATION: This meeting is available to the public through the following toll-free call-in number: 800-360-9505, Access code: 199 068 5392. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-877-8339 and providing the Service with the conference call number and conference ID number.

Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012 or email Ana Victoria Fortes at afortes@usccr.gov.

Records and documents discussed during the meeting will be available for public viewing prior to and after the meeting at https://www.facadatabase .gov/FACA/FACAPublicViewCommitteeDetails?id=a10t0000001gzlJAAQ.

Please click on the “Committee Meetings” tab. Records generated from these meetings may also be inspected and reproduced at the Regional Programs Unit, as they become available, both before and after the meetings. Persons interested in the work of this Committee are directed to the Commission's website, https://www.usccr.gov, or may contact the Regional Programs Unit at the above email or street address.

Agenda

I. Opening Remarks (12:00-12:15 p.m.)

II. Speaker Presentations (12:15-1:15 p.m.)

III. Q & A (1:15-2:10 p.m.)

IV. Public Comment (2:10-2:25 p.m.)

V. Closing Remarks (2:25-2:30 p.m.)

Dated: January 26, 2021.
David Mussatt,
Supervisory Chief, Regional Programs Unit.

[FR Doc. 2021-02026 Filed 1-29-21; 8:45 am]

BILLING CODE 6335-01-P